DEPARTMENT OF ENERGY

Federal Energy Regulatory Commission

[Docket No. CP20-527-000]

Columbia Gulf Transmission, LLC; Notice of Request for Extension of Time

Take notice that on January 19, 2024, Columbia Gulf Transmission, LLC (Columbia Gulf) requested that the Federal Energy Regulatory Commission (Commission) grant an extension of time (2024 Extension of Time Request), until September 25, 2025, to construct and make available for service the facilities that were authorized in the original certificate authorization issued on March 25, 2022 (Certificate Order).¹ The Certificate Order authorized the East Lateral XPress Project (Project) in St. Mary, Lafourche, Jefferson, and Plaquemines Parishes, Louisiana and required Columbia Gulf to complete construction of the Project facilities and make them available for service by March 25, 2024.

¹ Columbia Gulf Transmission, LLC, 172 FERC ¶ 61,260 (2020).

In its 2024 Extension of Time Request, Columbia Gulf states that due to delays in obtaining all Federal authorizations required for the Project, it requires additional time to complete construction of the authorized Project facilities. Specifically, Columbia Gulf explains that all required Federal permits were recently obtained and on December 5, 2023, as supplemented, Columbia Gulf filed a request with the Commission for Notice to Proceed with construction of the Project. On December 14, 2023, the Commission granted Columbia Gulf's request. Columbia Gulf states that it subsequently mobilized crews and commenced bona fide construction activities on December 21, 2023. Columbia Gulf states that construction is anticipated to be complete during the last quarter of 2024, with a Project in-service anticipated by February 1, 2025.

This notice establishes a 15-calendar day intervention and comment period deadline. Any person wishing to comment on Columbia Gulf's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,² the Commission will aim to issue an order acting on the request within 45 days.³ The Commission will address all arguments relating to whether the applicant has demonstrated there is good cause to grant the extension.⁴ The Commission will not consider arguments that re-litigate the issuance of the certificate order, including whether the Commission properly found the project to be in the public convenience and necessity and whether the Commission's environmental analysis for the certificate complied with the National Environmental Policy Act (NEPA).⁵ At the time a pipeline requests an extension of time, orders on certificates of public convenience and necessity are final and the Commission will not re-litigate their issuance.⁶ The Director of the Office of Energy Projects, or his or her designee, will act on all of those extension requests that are uncontested.

² Contested proceedings are those where an intervenor disputes any material issue of the filing. 18 CFR 385.2201(c)(1).

³ Algonquin Gas Transmission, LLC, 170 FERC ¶ 61,144, at P 40 (2020).

⁴ Id. at P 40.

⁵ Similarly, the Commission will not re-litigate the issuance of an NGA section 3 authorization, including whether a proposed project is not inconsistent with the public interest and whether the Commission's environmental analysis for the permit order complied with NEPA.

⁶ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. Public access to records formerly available in the Commission's physical Public Reference Room, which was located at the Commission's headquarters, 888 First Street NE, Washington, DC 20426, are now available via the Commission's website. For assistance, contact FERC at FERCOnlineSupport@ferc.gov or call toll free, (866) 208-3676 or TTY (202) 502-8659.

The Commission strongly encourages electronic filings of comments in lieu of paper using the “eFile” link at http://www.ferc.gov. In lieu of electronic filing, you may submit a paper copy which must reference the Project docket number.

To file via USPS: Debbie-Anne Reese, Acting Secretary, Federal Energy Regulatory Commission, 888 First Street NE, Washington, DC 20426

To file via any other courier: Debbie-Anne Reese, Acting Secretary, Federal Energy Regulatory Commission, 12225 Wilkins Avenue, Rockville, Maryland 20852

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Comment Date: 5 p.m. eastern time on February 14, 2024.

Dated: January 30, 2024.
Debbie-Anne A. Reese,
Acting Secretary.

[FR Doc. 2024-02201 Filed 2-2-24; 8:45 am]

BILLING CODE 6717-01-P